DEPARTMENT OF ENERGY

Federal Energy Regulatory Commission

[Docket No. RP02-138-000]

East Tennessee Natural Gas Company; Notice of Proposed Changes in FERC Gas Tariff

January 10, 2002.

Take notice that on January 8, 2002, East Tennessee Natural Gas Company (East Tennessee) tendered for filing as part of its FERC Gas Tariff, Second Revised Volume No. 1, the following tariff sheets, proposed to be effective on February 7, 2002:

Fourth Revised Sheet No. 266

Fourth Revised Sheet No. 267

Third Revised Sheet No. 269

Fourth Revised Sheet No. 270

East Tennessee states that the purpose of this filing is to modify the LINKr System Agreement contained in its tariff to: (1) Remove certain outdated provisions related to software needed to access East Tennessee's LINKr Customer Interface System; (2) add Egan Hub Partners, L.P. and Moss Bluff Hub Partners, L.P. as parties to the agreement; (3) provide that notices can be sent to any specified address instead of only to a post office address; and (4) reflect certain non-substantive changes.

East Tennessee states that copies of its filing have been mailed to all affected customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

C.B. Spencer,
Acting Secretary.

[FR Doc. 02-1080 Filed 1-15-02; 8:45 am]

BILLING CODE 6717-01-P